ELECTION ASSISTANCE COMMISSION

Sunshine Act Notice

AGENCY: United States Election Assistance Commission.

ACTION: Notice of Public Meeting Agenda.

Date & Time: Thursday, July 28, 2005, 10 a.m. - 12 Noon.

Place: California Institute of Technology, Baxter Humanities Building, Baxter Lecture Hall (Third Floor), 1200 East California Blvd., Pasadena, CA 91125.

Agenda: The Commission will receive the following reports: Title II Requirements Payments Update, Statewide voter registration list guidance, and updates on other administrative matters. The Commission will receive presentations regarding the voter identification provisions of the Help America Vote Act of 2002 (HAVA).

This Meeting Will Be Open To the Public.

CONTACT FOR FURTHER INFORMATION: Bryan Whitener, Telephone: (202) 566-3100.

Thomas R. Wilkey,
Executive Director, U.S. Election Assistance Commission.

[FR Doc. 05-14214 Filed 7-15-05; 10:46 am]

BILLING CODE 6820-KF-M